DEPARTMENT OF COMMERCE

International Trade Administration

[A-552-802]

Certain Frozen Warmwater Shrimp from the Socialist Republic of Vietnam: Initiation of New Shipper Review

AGENCY: Import Administration, International Trade Administration, Department of Commerce.

EFFECTIVE DATE: March 24, 2006.

SUMMARY: The Department of Commerce (the “Department”) has determined that a request for a new shipper review of the antidumping duty order on certain frozen warmwater shrimp from the Socialist Republic of Vietnam (“Vietnam”), received before February 28, 2006, meets the statutory and regulatory requirements for initiation. The period of review (“POR”) of this new shipper review is July 16, 2004, through January 31, 2006.

FOR FURTHER INFORMATION CONTACT: Nicole Bankhead, AD/CVD Operations, Office 9, Import Administration, International Trade Administration, U.S. Department of Commerce, 14th Street and Constitution Avenue, NW., Washington, DC 20230; telephone: (202) 482-9068.

SUPPLEMENTARY INFORMATION:

Background

The notice announcing the antidumping duty order on certain frozen warmwater shrimp from Vietnam was published in the Federal Register on February 1, 2005. See Notice of Amended Final Determination of Sales at Less Than Fair Value and Antidumping Duty Order: Certain Frozen Warmwater Shrimp From the Socialist Republic of Vietnam, 70 FR 05152 (February 1, 2005) (“Vietnam Shrimp Order”).¹ On January 31, 2006, pursuant to 19 CFR 351.214(c), the Department received a new shipper review request from Grobest & I-Mei Industrial (Vietnam) Co., Ltd. (“Grobest”). On February 24, 2006, the Department requested that Grobest correct certain filing deficiencies. See the Department's letter dated February 24, 2006. On February 28, 2006, Grobest resubmitted its new shipper request. Grobest certified that it is both the producer and exporter of the subject merchandise upon which the request for a new shipper review is based.

¹ Therefore, a request for a new shipper review based on the anniversary month, February, was due to the Department by the final day of February 2006. See 19 CFR 351.214(d)(1).

Pursuant to section 751(a)(2)(B)(i)(I) of the Tariff Act of 1930 as amended (“the Act”), and 19 CFR 351.214(b)(2)(i), Grobest certified that it did not export frozen warmwater shrimp to the United States during the period of investigation (“POI”). In addition, pursuant to section 751(a)(2)(B)(i)(II) of the Act and 19 CFR 351.214(b)(2)(iii)(A), Grobest certified that, since the initiation of the investigation, it has never been affiliated with any Vietnamese exporter or producer who exported frozen warmwater shrimp to the United States during the POI, including those not individually examined during the investigation. As required by 19 CFR 351.214(b)(2)(iii)(B), Grobest also certified that its export activities were not controlled by the central government of Vietnam.

In addition to the certifications described above, pursuant to 19 CFR 351.214(b)(2)(iv), Grobest submitted documentation establishing the following: (1) the date on which Grobest first shipped frozen warmwater shrimp for export to the United States and the date on which the frozen warmwater shrimp was first entered, or withdrawn from warehouse, for consumption; (2) the volume of its first shipment;² and (3) the date of its first sale to an unaffiliated customer in the United States.

² Grobest made no subsequent shipments to the United States, which the Department corroborated using data from U.S. Customs and Border Protection.

The Department conducted customs database queries to confirm that Grobest's shipment of subject merchandise had entered the United States for consumption and had been suspended for antidumping duties.

Initiation of New Shipper Reviews

Pursuant to section 751(a)(2)(B) of the Act and 19 CFR 351.214(d)(1), the Department finds that Grobest's request meets the threshold requirements for initiation of a new shipper review for the shipment of frozen warmwater shrimp from Vietnam it produced and exported. See Memo to the File from Nicole Bankhead, Case Analyst, through James C. Doyle, Office Director, Office 9: New Shipper Review Initiation Checklist, dated March 17, 2006.

The POR for this new shipper review is July 16, 2004, through January 31, 2006. See 19 CFR 351.214(g)(1)(ii)(A). The Department intends to issue the preliminary results of this review no later than 180 days from the date of initiation, and final results of this review no later than 270 days from the date of initiation. See section 751(a)(2)(B)(iv) of the Act.

Because Grobest has certified that it produced and exported the frozen warmwater shrimp upon which it based its request for a new shipper review, the Department will instruct U.S. Customs and Border Protection to allow, at the option of the importer, the posting of a bond or security in lieu of a cash deposit for each entry of frozen warmwater shrimp that was both produced and exported by Grobest until the completion of the new shipper review, pursuant to section 751(a)(2)(B)(iii) of the Act.

Interested parties requiring access to proprietary information in this new shipper review should submit applications for disclosure under administrative protective order in accordance with 19 CFR 351.305 and 351.306.

This initiation and notice are published in accordance with section 751(a)(2)(B) of the Act and 19 CFR 351.214 and 351.221(c)(1)(i).

Dated: March 17, 2006.
Stephen J. Claeys,
Deputy Assistant Secretary for Import Administration.

[FR Doc. E6-4312 Filed 3-23-06; 8:45 am]

BILLING CODE 3510-DS-S